DEPARTMENT OF EDUCATION

[CFDA NO. 84.031H]

Office of Postsecondary Education; Strengthening Institutions (SIP), American Indian Tribally Controlled Colleges and Universities (TCCU), Alaska Native and Native Hawaiian-Serving Institutions (ANNH) and Developing Hispanic-Serving Institutions (HSI) Programs; Notice Inviting Applications for Designation as Eligible Institutions for Fiscal Year (FY) 2004

Purpose of Programs: Under the SIP, TCCU, and ANNH Programs, authorized under Part A of Title III of the Higher Education Act of 1965, as amended (HEA), institutions of higher education are eligible to apply for grants if they meet specific statutory and regulatory eligibility requirements. Similarly, institutions of higher education are eligible to apply for grants under the HSI Program, authorized under Title V of the HEA, if they meet specific statutory and regulatory requirements. In addition, an institution that is designated as an eligible institution under those programs may also receive a waiver of certain non-Federal share requirements under the Federal Supplemental Educational Opportunity Grant (FSEOG), the Federal Work Study (FWS), the Student Support Services (SSS) and the Undergraduate International Studies and Foreign Language (UISFL) Programs. The FSEOG, FWS and SSS Programs are authorized under Title IV of the HEA; the UISFL Program is authorized under Title VI of the HEA.

Qualified institutions may receive these waivers even if they are not recipients of grant funds under the Title III Part A Programs or Title V Program.

Special Note: To become eligible, your institution must satisfy several criteria, including one related to needy student enrollment and one related to average Educational and General (E&G) expenditures for a particular base year. Because we changed the collection processes for determining the thresholds for these two criteria, we do not have base year data beyond 2000-2001. In order to award FY 2004 grants in a timely manner, we will use threshold data from the base year 2000-2001 rather than a later base year. In completing your eligibility application, please use data from the base year 2000-2001.

Eligible Applicants: To qualify as an eligible institution under the Title III, Part A Programs or the Title V Program, an accredited institution must, among other requirements, have an enrollment of needy students, and its average E&G expenditures per full-time equivalent (FTE) undergraduate student must be low in comparison with the average E&G expenditures per FTE undergraduate student of institutions that offer similar instruction. To be an eligible Hispanic-Serving Institution, an institution must—

(1) Be accredited or preaccredited by a nationally recognized accrediting agency or association that the Secretary has determined to be a reliable authority as to the quality of education or training offered;

(2) Be legally authorized by the State in which it is located to be a junior college or to provide an educational program for which it awards a bachelor's degree;

(3) Have an enrollment of needy students as described in the Enrollment of Needy Students section of this notice;

(4) Have low average educational and general expenditures per full-time equivalent undergraduate student as described in the Educational and General Expenditures per Full-Time Equivalent Student section of this notice and the application booklet;

(5) Have, at the time of application, an enrollment of undergraduate full-time equivalent students that is at least 25 percent Hispanic students; and

(6) Provide assurances that not less than 50 percent of its Hispanic students are low-income individuals.

Note: Numbers five and six above are required at the time of submission of the grant application.

The complete eligibility requirements for the Title III, Part A Programs are found in 34 CFR 607.2 through 607.5; the complete eligibility for the HSI Programs are found in 34 CFR 606.2 through 34 CFR 606.5. These regulations may also be accessed by visiting the following Department of Education Web site: http://www.ed.gov/legislation/FedRegister/finrule/1999-4/121599a.html.

Enrollment of Needy Students: Under 34 CFR 606.3(a) and 607.3(a), an institution is considered to have an enrollment of needy students if: (1) At least 50 percent of its degree students received financial assistance under one or more of the following programs: Federal Pell Grant, FSEOG, FWS, and Federal Perkins Loan Programs; or (2) the percentage of its undergraduate degree students who were enrolled on at least a half-time basis and received Federal Pell Grants exceeded the median percentage of undergraduate degree students who were enrolled on at least a half-time basis and received Federal Pell Grants at comparable institutions that offered similar instruction.

To qualify under this latter criterion, an institution's Federal Pell Grant percentage for base year 2000-2001 must be more than the median for its category of comparable institutions provided in the table in this notice.

Educational and General Expenditures per Full-Time Equivalent Student: An institution should compare its 2000-2001 average E&G expenditures per FTE student to the average E&G expenditure per FTE student for its category of comparable institutions contained in the table in this notice. If the institution's average E&G expenditures for the 2000-2001 base year are less than the average for its category of comparable institutions, it meets this eligibility requirement.

An institution's average E&G expenditures are the total amount it expended during the base year for instruction, research, public service, academic support, student services, institutional support including library expenditures, operation and maintenance, scholarships and fellowships, and mandatory transfers.

The following table identifies the relevant median Federal Pell Grant percentages and the relevant average E&G expenditures per FTE student for the base year 2000-2001 for the four categories of comparable institutions:

Type of Institution | Median Pell Grant (percentage) | Average E&G per FTE
2-year public institutions | 19.6 | $8,668
2-year non-profit private institutions | 32.7 | 20,483
4-year public institutions | 23.5 | 20,789
4-year non-profit private institutions | 23.2 | 31,579

Waiver Information: Institutions of higher education that are unable to meet the needy student enrollment requirement or the average E&G expenditures requirement may apply to the Secretary for waivers of these requirements, as described in 34 CFR 606.3(b), 606.4(c) and (d), 607.3(b) and 607.4(c) and (d). Institutions requesting a waiver of the needy student enrollment requirement or the average E&G expenditures requirement must include in their application detailed information supporting the waiver request, as described in the instructions for completing the application.

With respect to the needy student requirement waiver, 34 CFR 606.3(b)(2) and (3) and 607.3(b)(2) and (3) refer to “low-income” students and families. The regulations define “low-income” as an amount which does not exceed 150 percent of the amount equal to the poverty level in the 2000-2001 base year as established by the U.S. Bureau of the Census, 34 CFR 606.3(c) and 607.3(c).

For the purposes of this waiver provision, the following table sets forth the low-income levels for the various sizes of families:

2000 Annual Low-Income Levels
Size of family unit | Contiguous 48 States, the District of Columbia and outlying | Alaska | Hawaii
1 | $12,525 | $15,645 | $14,385
2 | 16,875 | 21,090 | 19,395
3 | 21,225 | 26,535 | 24,405
4 | 25,575 | 31,980 | 29,415
5 | 29,925 | 37,425 | 34,425
6 | 34,275 | 42,870 | 39,435
7 | 38,625 | 48,315 | 44,445
8 | 42,975 | 53,760 | 49,455

For family units with more than eight members, applicants requesting a waiver should add the following amount for each additional family member: $4,350 for the contiguous 48 states, the District of Columbia and outlying jurisdictions; $5,445 for Alaska; and $5,010 for Hawaii.

The figures shown as low-income levels represent amounts equal to 150 percent of the family income levels established by the U.S. Bureau of the Census for determining poverty status. The Census levels were published by the U.S. Department of Health and Human Services in the Federal Register on February 15, 2000 (65 FR 7555-7557).

The information about “metropolitan statistical areas” referenced in 34 CFR 606.3(b)(4) and 607.3(b)(4) may be obtained by requesting the Metropolitan Statistical Areas, 1999, order number PB99-501538, from the National Technical Information Service, Document Sales, 5285 Port Royal Road, Springfield, Virginia 22161, telephone number 1-800-553-6847. There is a charge for this publication.

Applications Available: December 5, 2003.

Deadline for Transmittal of Applications: January 20, 2004 for an applicant institution that wishes to apply for a FY 2004 new grant under the Title III, Part A Programs or the Title V Program; May 28, 2004 for an institution that wishes to apply only for cost-sharing waivers under the FSEOG, FWS, SSS or UISFL Programs; and, January 20, 2004 for an institution that wishes to apply for both a grant under the Title III, Part A Programs or the Title V Program and a waiver of the Non-Federal share requirement.

Electronic Submission of Applications: The Government Paperwork Elimination Act (GPEA) of 1998 (Pub. L. 105-277) and the Federal Financial Assistance Management Improvement Act of 1999 (Pub. L. 106-107) encourage us to undertake initiatives to improve our grant processes. Enhancing the ability of individuals and entities to conduct business with us electronically is a major part of our response to these Acts. Therefore, we are taking steps to adopt the Internet as our chief means of conducting transactions in order to improve services to our customers and to simplify and expedite our business processes.

Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

We are requiring that applications for institutional eligibility for FY 2004 under Request for Designation as an Eligible Institution be submitted electronically at the following Web site:

http://webprod.cbmiweb.com/Title3and5/index.html.

If you are unable to submit an application electronically you may submit a written request for a waiver of the electronic submission requirement. In the request, you should explain the reason or reasons that prevent you from using the Internet to submit your application. The request should be addressed to: Mr. Louis Venuto, U.S. Department of Education, 1990 K Street, room 6071, Washington, DC 20202-8513. Please submit your request no later than two weeks before the application deadline date.

If, within two weeks of the application deadline date, you are unable to submit an application electronically, you must submit a paper application by the application deadline date in accordance with the transmittal instructions in the application package. The paper application must include a written request for a waiver documenting the reasons that prevented the applicant from using the Internet to submit the application.

To enter the Web site, you must use your institution's unique 8-digit identifier, i.e., your Office of Postsecondary Education Identification Number (OPE ID number). If you receive a hard copy of the eligibility application and instructions from us in the mail, look for the OPE ID number on the address label. Otherwise, your business office or student financial aid office should have the OPE ID number. If your business office or student financial aid office does not have the OPE ID number, contact the Department, using the e-mail addresses of the contact persons listed in this notice under FOR APPLICATIONS AND FURTHER INFORMATION CONTACT.

You will find detailed instructions for completing the application form electronically under the “eligibility 2004” link at either of the following Web sites:

http://www.ed.gov/programs/iduestitle3a.index.html or http://www.ed.gov/hsi.

For institutions of higher education that are unable to meet the needy student enrollment requirement or the average E&G expenditure requirement and wish to request a waiver of one or both of those requirements, you must complete your designation application form electronically and transmit your waiver request narrative document from the following Web site:

http://webprod.cbmiweb.com/Title3and5/index.html.

If your institution is unable to electronically submit your narrative waiver request, print the electronic application form and mail it along with the waiver request narrative to Mr. Louis Venuto, Team Leader, Institutional Development and Undergraduate Education Service, U.S. Department of Education, 1990 K Street, NW, Room 6071, Request for Eligibility Designation, Washington, DC 20202-8513.

Applicable Regulations: (a) The Education Department General Administrative Regulations in 34 CFR parts 74, 75, 77, 79, 82, 85, 86, 97, 98, and 99. (b) The regulations for the Title III, Part A Programs in 34 CFR part 607, and for the Title V Program in 34 CFR part 606.

FOR APPLICATIONS AND FURTHER INFORMATION CONTACT: Ellen M. Sealey, Carlos Reeder or Delores Anistead, Institutional Development and Undergraduate Education Service, U.S. Department of Education, 1990 K Street, Room 6049, Request for Eligibility Designation, Washington, DC 20202-8513. Ms. Sealey's telephone number is (202) 502-7580. Mr. Reeder's telephone number is (202) 502-7592. Mrs. Anistead's telephone number is (202) 219-7060. Ms. Sealey, Mr. Reeder and Mrs. Anistead may be reached via e-mail at the following addresses: ellen.sealey@ed.gov, carlos.reeder@ed.gov, and delores.anistead@ed.gov.

If you use a telecommunications device for the deaf (TDD), you may call the Federal Information Relay Service (FIRS) at 1-800-877-8339.

Individuals with disabilities may obtain this document in an alternative format (e.g., Braille, large print, audio tape, or computer diskette) on request to the contact persons listed under FOR APPLICATIONS AND FURTHER INFORMATION CONTACT.

Individuals with disabilities may obtain a copy of the application package in an alternative format by contacting those persons. However, the Department is not able to reproduce in an alternative format the standard forms included in the application package.

Electronic Access to This Document

You may view this document, as well as all other documents of this Department published in the Federal Register, in text or Adobe Portable Document Format (PDF) on the Internet at the following site:

http://www.ed.gov/news/fedregister.

To use PDF, you must have Adobe Acrobat Reader, which is available free at this site. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 1057-1059d, 1101-1103g.

Sally L. Stroup,
Assistant Secretary, Office of Postsecondary Education.

[FR Doc. 03-30432 Filed 12-4-03; 11:19 am]

BILLING CODE 4000-01-P